OFFICE OF THE UNITED STATES TRADE REPRESENTATIVE

United States-European Free Trade Association Mutual Recognition Agreement

AGENCY: Office of the United States Trade Representative.

ACTION: Notice and request for comments.

SUMMARY: The United States is considering a proposal to negotiate a mutual recognition agreement (MRA) with European Free Trade Association (EFTA) countries who are part of the European Economic Area (EEA)—i.e., Norway, Iceland, and Liechtenstein. Such an agreement would parallel the provisions of the 1998 U.S.-EU MRA, but would be restricted to sectoral annexes on telecommunications equipment, electromagnetic compatibility (EMC) and recreational craft. The Office of the United States Trade Representative (USTR) seeks public comment on the desirability of negotiating a mutual recognition agreement in these sectors with EFTA EEA.

DATES: Comments should be submitted no later than Friday, May 3, 2002.

FOR FURTHER INFORMATION CONTACT: For procedural questions concerning public comments, contact Gloria Blue, Executive Secretary, Trade Policy Staff Committee, Office of the U.S. Trade Representative, 1724 F Street, NW., Washington, DC 20508, tel: (202) 395-3475. All other questions should be addressed to Jim Sanford, Director for European Affairs at (202) 395-3320; or Jason Buntin, Director for EFTA Affairs at (202) 395-4620.

SUPPLEMENTARY INFORMATION: Since 1995, the European Free Trade Association (EFTA) countries who are part of the European Economic Area (EEA)—i.e., Norway, Iceland, and Liechtenstein—have requested that the United States negotiate a mutual recognition agreement (MRA) that would parallel the agreement concluded between the United States and the European Community (EC) in 1998. The United States has indicated that it would continue to review EFTA's interest in an MRA as implementation of the U.S.-EU MRA proceeded. Now that the U.S.-EU MRA sectoral annexes on telecommunications equipment, EMC and recreational craft are fully operational, the United States is in a position to consider an MRA with EFTA EEA in these sectors. The possible addition of other sectors in the future will be considered in the context of agency priorities and the availability of agency resources.

In 1994, the Agreement on the European Economic Area (EEA) created a single market ensuring free circulation of goods, persons, capital and services among the 15 EU Member States and the three EFTA EEA states. Norway, Iceland, and Liechtenstein, are integrated into the European Community Single Market and thereby apply the internal market legislation (acquis communautaire). This ensures that the EEA EFTA States and their economic operators are subject to the same rights and obligations as their counterparts in the Community, and that a product placed on the market in accordance with the EU technical requirements freely circulates within the EEA. Therefore, U.S. products marketed according to EC requirements also automatically comply with the requirements of the EEA EFTA States.

An agreement between the United States and the EEA EFTA States would ensure U.S. producers direct market access to the EFTA part of the Community's Single Market. In effect, an MRA with EFTA EEA would extend the benefits of selected annexes of the U.S.-EU MRA to the markets of Norway, Iceland, and Liechtenstein.

US-EU MRA: In December 1998, the United States and the EU began implementation of the U.S.-EU Mutual Recognition Agreement. The U.S.-EU MRA is designed to facilitate trade, while maintaining our current high levels of health and safety protection. Once fully implemented, this MRA will permit U.S. exporters to conduct required conformity assessment procedures (e.g., product tests, inspections, and certifications) in the United States according to EU requirements, and vice versa. The sectoral annexes of the U.S.-EU MRA cover the following products and associated conformity assessment procedures: (1) Telecommunications and information technology equipment; (2) network and electromagnetic compatibility (EMC) for electrical products; (3) electrical safety for electrical products; (4) good manufacturing practices (GMP) for pharmaceutical products; (5) product assessment for certain medical devices and quality systems-related inspections for most medical devices; (6) and safety of recreational craft. Each sectoral annex contains specific provisions with respect to the products and associated conformity assessment procedures covered in the annex.

Currently, three sectoral annexes of the U.S.-EU MRA are fully operational (telecommunications equipment, EMC and recreational craft). The U.S.-EU mutual recognition agreement annexes on telecommunications equipment covers telecommunications terminal equipment, including radio transmitters and information technology equipment. The annex on electromagnetic compatibility (EMC) covers equipment subject to EU and U.S. radio interference and compatibility requirements, including radios and VCRs imported into the United States and most electrical and electronic equipment exported to the EU. The recreational craft annex covers the safety certification of small boats.

PUBLIC COMMENTS: USTR invites written comments from interested persons on the desirability of negotiating an MRA with EFTA covering the sectors of telecommunications equipment, electromagnetic compatibility, and recreational craft. Comments are invited in particular on: (a) The benefits for pursuing an MRA covering these sectors; and (b) any specific issues regarding an MRA covering any of the sectors. All submissions must be in English and should conform to the information requirements of 15 CFR part 2003. Comments should state clearly the position taken and should describe the specific information (including data, if possible) supporting that position.

All written comments should be addressed to: Gloria Blue, Executive Secretary, Trade Policy Staff Committee, Office of the United States Trade Representative, 1724 F Street, NW., Washington, DC 20508.

Written comments, requests, or other information submitted in connection with this request, except information granted “business confidential” status pursuant to 15 CFR 2003.6, will be available for public inspection in the USTR Reading Room, Room 3, 1724 F Street, NW., Washington, DC 20508. An appointment to review the file may be made by calling (202) 395-6186. The Reading Room is open to the public from 10 a.m. to 12 noon, and from 1 p.m. to 4 p.m. Monday through Friday.

Business confidential information will be subject to the requirements of 15 CFR 2003.6. Any business confidential material must be clearly marked as such on the cover letter or page and each succeeding page, and must be accompanied by a non-confidential summary thereof, in the form specified above. A justification as to why the information contained in the submission should be treated confidentially must be included in the submission.

Carmen Suro-Bredie,
Chair, Trade Policy Staff Committee.

[FR Doc. 02-7373 Filed 3-26-02; 8:45 am]

BILLING CODE 3190-01-P